DEPARTMENT OF LABOR

Office of the Secretary

Submission for OMB Review: Comment Request

April 19, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation including, among other things, a description of the likely respondents, proposed frequency of response, and estimated total burden may be obtained from the RegInfo.gov Web site at http://www.reginfo.gov/public/do/PRAMain or by contacting Darrin King on 202-693-4129 (this is not a toll-free number), e-mail: DOL_PRA_PUBLIC@dol.gov.

Interested parties are encouraged to send comments to the Office of Information and Regulatory Affairs, Attn: OMB Desk Officer for the Department of Labor—Office of Disability Employment Policy (ODEP), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Disability Employment Policy.

Type of Review: New collection (Request for a new OMB Control Number).

Title of Collection: National Survey of Public Attitudes Towards People With Disabilities.

OMB Control Number: Pending.

Agency Form Number: N/A.

Affected Public: Individuals.

Total Estimated Number of Respondents: 4,456.

Total Estimated Annual Burden Hours: 640.

Total Estimated Annual Costs Burden: $0.

Description: This survey will assess public attitudes towards people with disabilities with a focus on workplace relations. The survey will inform ODEP's policies to promote the employment of people with disabilities as it assesses the attitudes of individuals and develops ways of changing those attitudes to improve the employment rate and overall well-being of people with disabilities in the workplace. The study will also provide direction for the development of intervention programs that can be adopted in a corporate environment to promote acceptance and integration of people with disabilities in the workplace. For additional information, see related notice published in the Federal Register on January 14, 2010 (75 FR page 2162).

Darrin A. King,
Departmental Clearance Officer.

[FR Doc. 2010-9370 Filed 4-21-10; 8:45 am]

BILLING CODE 4510-CX-P